DEPARTMENT OF LABOR

Employment and Training Administration

[TA-W-53,741]

Cone Mills Corporation, Salisbury Plant, Salisbury, NC; Notice of Termination of Investigation

Pursuant to section 221 of the Trade Act of 1974, as amended, an investigation was initiated on December 4, 2003 in response to a petition filed by a company official on behalf of workers at Cone Mills Corporation, Salisbury Plant, Salisbury, North Carolina.

The subject firm worker group is covered by an amended certification issued for workers of Cone Mills Corporation, Salisbury, North Carolina, TA-W-53,291C. Consequently, further investigation would serve no purpose, and the investigation has been terminated.

Signed at Washington, DC, this 23rd day of December, 2003.
Linda G. Poole,
Certifying Officer, Division of Trade Adjustment Assistance.

[FR Doc. 04-648 Filed 1-12-04; 8:45 am]

BILLING CODE 4510-30-P